DEPARTMENT OF THE INTERIOR

National Park Service

Environmental Assessment for the Establishment of the Martin Luther King Jr. Memorial; Notice of Availability

AGENCY: Department of the Interior, National Park Service.

ACTION: Notice of availability.

SUMMARY: Pursuant to the Council of Environmental Quality regulations and National Park Service policy, this notice announces the availability of a revised Environmental Assessment (EA) for the establishment and operation of a national memorial to Dr. Martin Luther King, Jr., to be located on parkland in Washington, DC. The EA was first released in 2005. The proposed Martin Luther King, Jr. Memorial (Memorial) is conceived as a space that is quiet and contemplative; but also uses powerful and evocative symbolism to convey Dr. King's message of justice, democracy, and hope. The approved site for the Martin Luther King, Jr. Memorial is a four-acre parcel of land located on the northwestern side of the Tidal Basin within West Potomac Park (the project area). The triangular-shaped site is located across the Tidal Basin from the Jefferson Memorial and approximately 750 feet north of the Franklin Delano Roosevelt Memorial. The site is generally bounded by Independence Avenue on the north, the pedestrian walkway of the Tidal Basin on the east, the Franklin Delano Roosevelt Memorial on the south, and recreational open space on the west. The site also includes a portion of West Basin Drive. This EA has been revised to incorporate and address changes that were made in the proposal after the 2005 EA was issued, and to otherwise update the EA.

DATES: There will be a 30-day public review period for comment on this document. Comments on this EA should be received no later than October 19, 2009.

ADDRESSES: Comments should be submitted either via the National Park Service Planning, Environment, and Public Comment (PEPC) Web site (http://parkplanning.nps.gov/NAMA) or in writing to Mr. Doug Jacobs, Deputy Associate Regional Director for Lands, Resources and Planning, National Capital Region, National Park Service, 1100 Ohio Drive, SW., Washington, DC 20242. Copies of the EA can be downloaded from PEPC and will also be available for review at the National Capital Region Headquarters, 1100 Ohio Drive, SW., Washington, DC 20242

Before including your address, phone number, e-mail address, or other personal identifying information in your comment, you should be aware that your entire comment—including your personal identifying information—may be made publicly available at any time. While you can ask us in our comment to withhold your personal identifying information from public review, we cannot guarantee that we will be able to do so.

FOR FURTHER INFORMATION CONTACT: Mr. Doug Jacobs, Deputy Associate Regional Director for Lands, Resources, and Planning at (202) 619-7025.

SUPPLEMENTARY INFORMATION: In 2005 the NPS and the Martin Luther King, Jr. National Memorial Project Foundation Inc. released an EA. Subsequently, after the 2005 EA went through the public comment process, revisions were made to the Memorial, including the addition of a visitor services facility, security features, and the realignment of West Basin Drive. Consistent with Council on Environmental Quality policy, the NPS requires that the EA be rewritten to incorporate and consider new issues rather than supplemented. This revised EA, therefore, adds to, and expands upon, the information and impact analysis presented in the original 2005 Martin Luther King, Jr. National Memorial EA. The NPS will issue a decision on this revised EA.

September 10, 2009.
Margaret O'Dell,
Regional Director, National Capital Region.

[FR Doc. E9-22528 Filed 9-17-09; 8:45 am]

BILLING CODE 4312-JK-P